DEPARTMENT OF COMMERCE

International Trade Administration

[A-570-909]

Certain Steel Nails from the People's Republic of China: Extension of Time Limit for the Preliminary Results of the New Shipper Review

AGENCY: Import Administration, International Trade Administration, Department of Commerce.

EFFECTIVE DATE: April 5, 2010.

FOR FURTHER INFORMATION CONTACT: Matthew Renkey, AD/CVD Operations, Office 9, Import Administration, International Trade Administration, U.S. Department of Commerce, 14th Street and Constitution Avenue, NW, Washington, DC 20230; telephone: (202) 482-2312.

SUPPLEMENTARY INFORMATION:

Background

The notice announcing the antidumping duty order on certain steel nails from the People's Republic of China (“PRC”) was published in the Federal Register on August 1, 2008. See Notice of Antidumping Duty Order: Certain Steel Nails From the People's Republic of China, 73 FR 44961 (August 1, 2008) (“Antidumping Duty Order”). On August 24, 2009, we received a timely request for a new shipper review (“NSR”) from Maanshan Leader Metal Products Co., Ltd. (“Maanshan Leader”) in accordance with 19 CFR 351.214(c) and 351.214(d)(2). On September 25, 2009, the Department of Commerce (“Department”) published a notice of initiation of a NSR of certain steel nails from the People's Republic of China covering the period of January 23, 2008, through July 31, 2009. See Certain Steel Nails from the People's Republic of China: Initiation of Antidumping Duty New Shipper Review, 74 FR 48907, (September 25, 2009). On February 16, 2010, the Department issued a memorandum that tolled the deadlines for all Import Administration cases by seven calendar days due to the recent Federal Government closure. See Memorandum for the Record from Ronald Lorentzen, DAS for Import Administration, Tolling of Administrative Deadlines as a Result of the Government Closure During the Recent Snowstorm, dated February 12, 2010. As a result, the preliminary results are currently due on March 29, 2010.

Extension of Time Limits for Preliminary Results

Section 751(a)(2)(B)(iv) of the Tariff Act of 1930, as amended (“Act”), provides that the Department will issue the preliminary results of a NSR of an antidumping duty order within 180 days after the day on which the review was initiated. See also 19 CFR 351.214 (i)(1). The Act further provides that the Department may extend that 180-day period to 300 days if it determines that the case is extraordinarily complicated. See also 19 CFR 351.214 (i)(2).

The Department is extending the deadline because we determine that this NSR involves extraordinarily complicated issues, such as an evaluation of the bona fide nature of the company's sale and whether the company is in fact eligible for a NSR. Additionally, the Department requires further time to issue and receive responses to supplemental questionnaires as well as to receive and analyze surrogate country and surrogate value comments. We are therefore extending the time for the completion of the preliminary results of this review by 120 days, to July 27, 2010. The final results continue to be due 90 days after the publication of the preliminary results.

We are issuing and publishing this notice in accordance with sections 751(a)(2)(B)(iv) and 777(i) of the Act.

Dated: March 24, 2010.
John M. Andersen,
Acting Deputy Assistant Secretary for Antidumping and Countervailing Duty Operations.

[FR Doc. 2010-7512 Filed 4-2-10; 8:45 am]

BILLING CODE 3510-DS-S